Memorandum of September 25, 2001

Delegation of Authority To Compensate Air Carriers for Losses Resulting From the Terrorist Attacks of September 11, 2001

Memorandum for the Secretary of Transportation

By the authority vested in me as President by the Constitution and laws of the United States of America, including section 101 of the Air Transportation Safety and System Stabilization Act (Public Law 107-42) (the “Act”), and section 301 of title 3, United States Code, I hereby delegate to the Secretary of Transportation the authority vested in the President under section 101 (a) (2) of the Act to compensate air carriers for the direct and incremental losses they incurred from the terrorist attacks of September 11, 2001, and any resulting ground stop order.

You are authorized and directed to publish this memorandum in the Federal Register.

B

THE WHITE HOUSE,

Washington, September 25, 2001.

[FR Doc. 01-24454

Filed 9-26-01; 10:17 am]

Billing code 4910-62-M